SMALL BUSINESS ADMINISTRATION

[Disaster Declaration #15853 and #15854; Louisiana Disaster Number LA-00087]

Administrative Declaration of a Disaster for the State of Louisiana

AGENCY: U.S. Small Business Administration.

ACTION: Amendment 1.

SUMMARY: This is an amendment of the Administrative declaration of a disaster for the State of Louisiana dated 01/23/2019.

Incident: Severe Weather and Flooding.

Incident Period: 12/26/2018 through 02/07/2019.

DATES: Issued on 05/14/2019.

Physical Loan Application Deadline Date: 03/25/2019.

Economic Injury (EIDL) Loan Application Deadline Date: 10/23/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrative declaration for the State of Louisiana, dated 01/23/2019, is hereby amended to establish the incident period for this disaster as beginning 12/26/2018 and continuing through 02/07/2019.

All other information in the original declaration remains unchanged.

(Catalog of Federal Domestic Assistance Number 59008)

Dated: May 14, 2019.
Christopher M. Pilkerton,
Acting Administrator.

[FR Doc. 2019-10613 Filed 5-21-19; 8:45 am]

BILLING CODE 8025-01-P